DEPARTMENT OF EDUCATION

Office of Indian Education (OIE); Formula Grants to Local Educational Agencies

AGENCY: Office of Elementary and Secondary Education, Department of Education.

ACTION: Supplemental notice.

SUMMARY: On January 12, 2021, the Department of Education (Department) published in the Federal Register a notice inviting applications for fiscal year (FY) 2021 for the Office of Indian Education (OIE) Formula Grants to Local Educational Agencies program, Assistance Listing Number 84.060A. This notice provides supplemental information to clarify the student count data year that will be considered by the Secretary when making awards for FY 2021.

DATES: Part II of the Electronic Application System for Indian Education (EASIE) Applications Available: April 5, 2021.

Deadline for Transmittal of EASIE Part II: May 14, 2021, 11:59 p.m., Eastern Time.

FOR FURTHER INFORMATION CONTACT: For questions about the Formula Grants program, contact Dr. Crystal C. Moore, U.S. Department of Education, 400 Maryland Avenue SW, MS 6335, Washington, DC 20202-6335. Telephone: (202) 215-3964. Email: crystal.moore@ed.gov. For technical questions about the EASIE application and uploading documentation, contact the Partner Support Center (PSC). Telephone: 877-457-3336. Email: OIE.EASIE@ed.gov.

If you use a telecommunications device for the deaf (TDD) or a text telephone (TTY), contact the Federal Relay Service (FRS), toll free, at 1-800-877-8339 or by email at: federalrelay@sprint.com.

SUPPLEMENTARY INFORMATION: On January 12, 2021, we published in the Federal Register a notice inviting applications for the OIE Formula Grants to Local Educational Agencies program (86 FR 2397) (January 12, 2021 notice) that established the deadlines for Parts I and II of the EASIE application and described application and program requirements, including the requirement in section IV (6)(a) that applicants “submit a current Indian student count for FY 2021” in Part I of EASIE.

The deadline for Part I of the EASIE application closed on March 11, 2021. Upon reviewing submitted Part I applications, OIE discovered a decrease in a significant number of applicants' FY 2021 student count as compared to FY 2020. OIE conducted outreach to determine the cause for the decrease in student counts, and the majority of applicants surveyed cited the effects of the COVID-19 pandemic as the cause. Due to the COVID-19 pandemic and the significant impact it has had on applicants and the students served by this grant program, we are supplementing the January 12, 2021 notice with the following information for applicants:

(1) OIE will compare the applicant's current Indian student count for FY 2021 with the Indian student count provided by the same applicant on its FY 2020 application. OIE will allocate awards based on the higher of the student counts reported by an applicant in either FY 2020 or FY 2021.

(2) For applicants that did not apply in FY 2020, OIE will use the current Indian student count for FY 2021 as reported in their FY 2021 application.

All other requirements and deadlines established in the January 12, 2021 notice are unchanged and remain in effect. Applicants that submitted the Part I application are not required to take any further action for OIE to use the higher of the FY 2020 or 2021 student counts.

In order to receive an award, all applicants must meet all requirements established in the January 12, 2021 notice, including the upcoming deadline for Part II of the EASIE application. Failure to meet all requirements, including submitting the required “Supplementary Documentation” in section IV of the January 12, 2021 notice, by the listed deadline, will result in an incomplete application that will not be considered for funding. OIE recommends uploading the supplementary documentation at least two days prior to the FY21 deadline date of May 14, 2021 to ensure that any potential submission issues are resolved prior to the deadline.

Consistent with the January 12, 2021 notice, applicants must submit EASIE Part II by 11:59 p.m., Eastern Time on May 14, 2021. Instructions for submitting an application can be found in the January 12, 2021 notice.

Program Authority: 20 U.S.C. 7421, et seq.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ruth Ryder,
Deputy Assistant Secretary for Policy and Programs, Office of Elementary and Secondary Education.

[FR Doc. 2021-06915 Filed 4-2-21; 8:45 am]

BILLING CODE 4000-01-P